DEPARTMENT OF ENERGY

Federal Energy Regulatory Commission

18 CFR Part 35

[Docket No. RM02-1-000]

Standardization of Generator Interconnection Agreements and Procedures; Notice of Extension of Time

September 26, 2003.

AGENCY: Federal Energy Regulatory Commission.

ACTION: Final rule: notice of extension of time.

SUMMARY: On July 24, 2003, the Commission issued a final rule (Order No. 2003) addressing the standardization of generator interconnection agreements and procedures (68 FR 49846, August 19, 2003). The date for complying with the extensive filing requirements of Commission's Order No. 2003 is being extended at the request of various regional transmission organizations and independent system operators.

DATES: Compliance filing deadline: January 20, 2004.

FOR FURTHER INFORMATION CONTACT: Michael G. Henry (Legal Information), Office of the General Counsel, Federal Energy Regulatory Commission, 888 First Street, NE., Washington, DC 20426, (202) 502-8532.

SUPPLEMENTARY INFORMATION:

Notice of Extension of Time

September 26, 2003.

On September 9, 12, 16, 22, and September 24, 2003, respective Motions for an Extension of Time to comply with Commission Order No. 2003 were filed in the above-captioned proceeding on behalf of the Midwest Independent Transmission System Operator, Inc., the New York Independent System Operator, Inc., PJM Interconnection, L.L.C., the New England Power Pool Participants Committee and ISO New England, Inc., the New England Transmission Owners, the California Independent System Operator Corporation and its Jurisdictional Participating Transmission Owners and the New York Transmission Owners (Movants). The motions state that additional time is needed for Regional Transmission Organization and Independent System Operators to review the extensive filing requirements of Order No. 2003, to pursue discussions with stakeholders and various working groups, to study potential regional variances related to the Final Rule and to address time-consuming implementation issues. On September 16, 2003, Arizona Public Service Company and American Transmission L.L.C. filed answers in support of MISO's September 9th filing in this docket.

Upon consideration, notice is hereby given that Regional Transmission Organizations and Independent System Operators are granted an extension of time to comply with Commission Order No. 2003 until the close of business on January 20, 2004, as requested by the Movants.

Magalie R. Salas,
Secretary.

[FR Doc. 03-30933 Filed 12-12-03; 8:45 am]

BILLING CODE 6717-01-P